FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 31, 2012.

A. Federal Reserve Bank of Cleveland (Nadine Wallman, Vice President) 1455 East Sixth Street, Cleveland, Ohio 44101-2566:

1. The FFD Financial Corporation Employee Stock Ownership Plan, (“ESOP”), and Enos L. Loader, both of Dover, Ohio, Richard A. Brinkman, Strasburg, Ohio, and Leonard L. Gundy, New Philadelphia, Ohio, as individuals and in their capacities as Trustees of the ESOP, Janet K. Loader. Dover, Ohio, and Rebecca J. Brinkman, Strasburg, Ohio, as individuals; to acquire voting shares of FFD Financial Corporation, and thereby indirectly acquire voting shares of First Federal Community Bank, NA, both in Dover, Ohio.

B. Federal Reserve Bank of Chicago (Colette A. Fried, Assistant Vice President) 230 South LaSalle Street, Chicago, Illinois 60690-1414:

1. Edward A. Cox, Jr., individually, and together with John M. Cox, both of Naples, Florida, as a group acting in concert; to acquire voting shares of Rush-Oak Corporation, and thereby indirectly acquire voting shares of Oak Bank, both in Chicago, Illinois.

Board of Governors of the Federal Reserve System, January 11, 2012.
Robert deV. Frierson,
Deputy Secretary of the Board.

[FR Doc. 2012-646 Filed 1-13-12; 8:45 am]

BILLING CODE 6210-01-P